DEPARTMENT OF HEALTH AND HUMAN SERVICES

Substance Abuse and Mental Health Services Administration

Center for Substance Abuse Treatment; Amendment of Notice of Meeting

Pursuant to Public Law 92-463, notice is hereby given of an amendment of the meeting of the Substance Abuse and Mental Health Services Administration Center for Substance Abuse Treatment (CSAT) National Advisory Council (NAC) to be held on March 21.

Public notice was published in the Federal Register on February 27, 2007, Volume 72, Number 38, page 8760 announcing that the CSAT National Advisory Council would be convening on March 21 and March 22 at 1 Choke Cherry Road, Sugarloaf and Seneca Conference Rooms, Rockville, Maryland. The date and location of the meeting have changed. The meeting will be held at the Hilton Washington DC North/Gaithersburg, Salons D & E, 620 Perry Parkway, Gaithersburg, Maryland on March 21, from 8:45 a.m. to 5 p.m.

The contact for additional information remains as announced.

Dated: March 15, 2007.
Toian Vaughn,
Committee Management Officer, Substance Abuse and Mental Health Services Administration.

[FR Doc. E7-5148 Filed 3-19-07; 8:45 am]

BILLING CODE 4162-20-P